DEPARTMENT OF THE INTERIOR

Bureau of Land Management

[AK-933-1410-ET; A-033717]

Public Land Order No. 7540; Partial Revocation of Public Land Order No. 2374; Alaska

AGENCY: Bureau of Land Management, Interior.

ACTION: Public Land Order.

SUMMARY: This order revokes a public land order insofar as it affects approximately 304.18 acres of public lands withdrawn for military purposes for the Department of the Air Force at Port Moller Radio Relay Site, Alaska. The lands are no longer needed for the purpose for which they were withdrawn. This action also allows the conveyance of the lands to the State of Alaska, if such lands are otherwise available. Any lands described herein that are not conveyed to the State will continue to be subject to the terms and conditions of Public Land Order No. 5186, as amended, and any other withdrawal or segregation of record.

EFFECTIVE DATE: October 8, 2002.

FOR FURTHER INFORMATION CONTACT: Robbie J. Havens, Bureau of Land Management, Alaska State Office, 222 W. 7th Avenue, No. 13, Anchorage, Alaska 99513-7599, 907-271-5477.

Order

By virtue of the authority vested in the Secretary of the Interior by Section 204 of the Federal Land Policy and Management Act of 1976, 43 U.S.C. 1714 (1994), and by Section 17(d)(1) of the Alaska Native Claims Settlement Act, 43 U.S.C. 1616(d)(1) (1994), it is ordered as follows:

1. Public Land Order No. 2374, which withdrew public lands for military purposes, is hereby revoked insofar as it affects the following described lands:

Seward Meridian

T. 48 S., R. 72 W.,

Three parcels more particularly described as:

Tract A

Commencing at U.S.L.M.S. 1147, latitude 55°59′28″ N., longitude 160°34′29.374″ W., 1927 N.A.D.;

Thence S. 73°32′44″ E., 16.040.33 feet to Point “Site”;

Thence North 1,000 feet to the Point of Beginning; thence

East, 1,000 feet;

South, 2,000 feet;

West, 2,000 feet;

North, 2,000 feet;

East, 1,000 feet to the Point of Beginning.

The area described contains 91.83 acres.

Tract B

Commencing at U.S.L.M.S. 1147, latitude 55°59′28″ N., longitude 160°34′29.374″ W., 1927 N.A.D.;

Thence N. 30°18′42″ E., 3,785.54 feet to the Point of Beginning, thence

N. 59°32′30″ W., 750 feet;

N. 30°27′30″ E., 5,500 feet;

S. 59°32′30″ E., 1,500 feet;

S. 30°27′30″ W., 5,500 feet;

N. 59°32′30″ W., 750 feet to the Point of Beginning.

The area described contains 189.39 acres.

Tract C

Commencing at U.S.L.M.S. 1147, latitude 55°59′28″ N., longitude 160°34′29.374″ W., 1927 N.A.D.;

Thence S. 73°32′44″ E., 10,580 feet to the Point of Beginning; thence

N. 83° E., 730 feet;

S. 7° E., 1,000 feet;

S. 83° W., 1,000 feet;

N. 7° W., 1,000 feet;

N. 83° E., 270 feet to the Point of Beginning.

The area described contains 22.96 acres.

The areas described aggregate 304.18 acres.

2. The State of Alaska application for selection made under Section 6(b) of the Alaska Statehood Act of July 7, 1958, 48 U.S.C. note prec. 21 (1994), and under Section 906(e) of the Alaska National Interest Lands Conservation Act, 43 U.S.C. 1635(e)(1994), becomes effective without further action by the State upon publication of this public land order in the Federal Register, if such lands are otherwise available. Any lands not conveyed will continue to be subject to the terms and conditions of Public Land Order No. 5186, as amended, and any other withdrawal or segregation of record.

Dated: September 13, 2002.
Rebecca W. Watson,
Assistant Secretary—Land and Minerals Management.

[FR Doc. 02-25576 Filed 10-7-02; 8:45 am]

BILLING CODE 4310-JA-P